DEPARTMENT OF COMMERCE

Patent and Trademark Office

[Docket No.: PTO-P-2020-0031]

Extension of the Cancer Immunotherapy Pilot Program

AGENCY: United States Patent and Trademark Office, Department of Commerce.

ACTION: Notice.

SUMMARY: On June 29, 2016, the United States Patent and Trademark Office (USPTO) implemented the Cancer Immunotherapy Pilot Program, which permits patent applications pertaining to cancer immunotherapy to be advanced out of turn for examination and reviewed earlier (accorded special status). To date, over 500 petitions requesting participation in the pilot program have been filed, and 167 patents have been granted under the pilot program. In view of the continued interest in the program, the USPTO is extending it until June 30, 2022. All parameters will remain the same as in the original pilot.

DATES: Duration: The Cancer Immunotherapy Pilot Program will continue to run until June 30, 2022. Therefore, petitions to make special under the Cancer Immunotherapy Pilot Program must be filed on or before June 30, 2022. In addition, any petition to make special under the Cancer Immunotherapy Pilot Program filed between June 30, 2020, and the publication date of this notice will be considered timely. The USPTO may further extend the pilot program (with or without modifications) or terminate it, depending on feedback received, continued interest, and the effectiveness of the pilot program.

FOR FURTHER INFORMATION CONTACT: Pinchus M. Laufer, Patent Attorney (telephone: 571-272-7726; email: pinchus.laufer@uspto.gov); or Susy Tsang-Foster, Senior Legal Advisor (telephone: 571-272-7711; email: susy.tsang-foster@uspto.gov), of the Office of Patent Legal Administration, Office of the Deputy Commissioner for Patent Examination Policy.

For questions related to a specific petition, please contact Gary B. Nickol, Supervisory Patent Examiner (telephone: 571-272-0835; email: gary.nickol@uspto.gov); or Brandon J. Fetterolf, Supervisory Patent Examiner (telephone: 571-272-2919; email: brandon.fetterolf@uspto.gov), of Technology Center 1600.

SUPPLEMENTARY INFORMATION: The USPTO published a notice for the implementation of the Cancer Immunotherapy Pilot Program on June 29, 2016. See Cancer Immunotherapy Pilot Program, 81 FR 42328 (June 29, 2016), 1428 Off. Gaz. Pat. Office 253 (July 26, 2016) (Cancer Immunotherapy Notice). The pilot program was designed to support the global fight against cancer. The Cancer Immunotherapy Notice indicated that an applicant could have an application advanced out of turn (accorded special status) for examination without meeting all of the current requirements of the accelerated examination program set forth in item VIII of the Manual of Patent Examining Procedure section 708.02(a), if the application contained at least one claim to a method of treating cancer using immunotherapy and met other requirements specified in the Cancer Immunotherapy Notice.

The Cancer Immunotherapy Notice established that the pilot program would run for 12 months, beginning June 29, 2016. The USPTO extended the pilot program to December 31, 2018, through a notice published in the Federal Register (see Extension of the Cancer Immunotherapy Pilot Program, 82 FR 28645 (June 23, 2017), 1440 Off. Gaz. Pat. Office 256 (July 25, 2017)), and again to June 30, 2020 (see Extension of the Cancer Immunotherapy Pilot Program, 84 FR 411 (January 28, 2019), 1459 Off. Gaz. Pat. Office 239 (February 26, 2019)). In view of the continued interest in the pilot program, the USPTO is hereby extending the pilot program through June 30, 2022. The extension will also allow the USPTO to continue its evaluation of the program. The requirements of the pilot program have not been modified.

Various stakeholders from around the world—including independent inventors, universities, research institutions, hospitals, medical centers, government agencies, and large and small companies—have filed petitions to participate in the pilot program. To date, over 500 petitions requesting participation in the pilot program have been filed, and 167 patents have been granted under the pilot program. The USPTO may again extend the program (with or without modifications), depending on feedback from the participants, continued interest, and the effectiveness of the pilot program.

Dated: June 30, 2020.
Andrei Iancu,
Under Secretary of Commerce for Intellectual Property and Director of the United States Patent and Trademark Office.

[FR Doc. 2020-14841 Filed 7-9-20; 8:45 am]

BILLING CODE 3510-16-P